ELECTION ASSISTANCE COMMISSION

Meeting of the Technical Guidelines Development Committee

AGENCY: U.S. Election Assistance Commission.

ACTION: Notice of public meeting.

SUMMARY: The U.S. Election Assistance Commission announces that the Technical Guidelines Development Committee (TGDC) will meet in open session on Monday, February 13, 2017 and Tuesday, February 14, 2017 at the U.S. Access Board in Washington, DC.

DATES: The meeting will be held on Monday, February 13, 2017, from 8:30 a.m. until 5:00 p.m., Eastern time, and Tuesday, February 14, 2017 from 8:30 a.m. to 3:00 p.m., Eastern time (estimated based on speed of business).

ADDRESSES: The meeting will take place at the U.S. Access Board, 1331 F Street NW., Suite 800, Washington, DC 20004-1111; (202) 272-0080. Members of the public wishing to attend the meeting must notify Myesha Steadman by c.o.b. Monday, February 6, 2017, per instructions under the SUPPLEMENTARY INFORMATION section of this notice.

FOR FURTHER INFORMATION CONTACT: Patricia Wilburg, NIST Voting Program, Information Technology Laboratory, National Institute of Standards and Technology, 100 Bureau Drive, Stop 8970, Gaithersburg, MD 20899-8930, telephone: (301) 975-6994 or patricia.wilburg@nist.gov.

SUPPLEMENTARY INFORMATION: In accordance with the Federal Advisory Committee Act (FACA), Public Law 92-463, as amended, 5 U.S.C. Appendix 2, notice is hereby given that the U.S. Election Assistance Commission's (EAC) Technical Guidelines Development Committee (TGDC) will meet in open session on Monday, February 13, 2017 and Tuesday, February 14, 2017 at the U.S. Access Board in Washington, DC.

Discussions at the meeting will include the following topics: (1) Relating Lessons Learned from 2016 Election to the VVSG; (2) The Working Group and Constituency Group Activities since the September TGDC Meeting that include Interoperability, Cyber Security, Human Factors, and Testing; (3) the scope of the VVSG that includes VVSG Discussion and Final Agreement on Scope; (4) Testing in the Real World as applied to Voting System Test Labs and Manufacturers; (5) DHS—Designation of Critical Infrastructure; and (6) Standards Board/Board of Advisors, Next TGDC Meeting & Wrap-Up. The full meeting agenda will be posted in advance at http://vote.nist.gov/. All sessions of this meeting will be open to the public.

Anyone wishing to attend this meeting must pre-register by c.o.b. Monday, February 6, 2017, in order to attend. To register, contact Myesha Steadman, NIST Voting Program, Information Technology Laboratory, National Institute of Standards and Technology, 100 Bureau Drive, Stop 8970, Gaithersburg, MD 20899-8930, telephone: (301) 975-3258 or myesha.steadman@nist.gov. Persons attending meetings in the Access Board's conference space are requested to refrain from using perfume, cologne, and other fragrances (see http://www.access-board.gov/the-board/policies/fragrance-free-environment for more information). If you are in need of a disability accommodation, such as the need for Sign Language Interpretation, please contact Myesha Steadman by c.o.b. Monday, February 6, 2017.

Members of the public may submit relevant written statements to the TGDC with respect to the meeting no later than 5:00 p.m. EDT on Monday, February 6, 2017. Statements may be sent via email at facaboards@eac.gov, via standard mail addressed to the U.S. Election Assistance Commission, 1335 East-West Highway, Suite 4300, Silver Spring, MD 20910, or by fax at 301-734-3108. All comments will also be posted on http://vote.nist.gov/.

The TGDC was established in accordance with the requirements of Section 221, of the Help America Vote Act of 2002 (Pub. L. 107-252, codified at 42 U.S.C 15361), to act in the public interest to assist the Executive Director of the U.S. Election Assistance Commission (EAC) in the development of voluntary voting system guidelines. Details regarding the TGDC's activities are available at http://vote.nist.gov/.

This meeting will be open to the public.

Bryan Whitener,
Director, National Clearinghouse on Elections, U.S. Election Assistance Commission.

[FR Doc. 2017-01884 Filed 1-26-17; 8:45 am]

BILLING CODE 6820-KF-P